DEPARTMENT OF LABOR

Employment and Training Administration

[TA-W-74,336]

Polaris Industries, Including On-site Leased Workers From Westaff, Supply Technologies, Aerotek Securitas Security Services, Volt Workforce Solutions and Select Staffing, Osceola, WI; Amended Certification Regarding Eligibility To Apply for Worker Adjustment Assistance

In accordance with Section 223 of the Trade Act of 1974, as amended (“Act”), 19 U.S.C. 2273, the Department of Labor issued a Certification of Eligibility to Apply for Worker Adjustment Assistance on August 26, 2010, applicable to workers of Polaris Industries, including on-site leased workers from Westaff, Osceola, Wisconsin. The notice was published in the Federal Register on September 15, 2010 (75 FR 56143). The notice was amended on December 6, 2010, January 21, 2011 and April 12, 2011 to include on-site leased workers from Supply Technologies, Aerotek Securitas Security Services and Volt Workforce Solutions. The notices were published in the Federal Register on December 13, 2010 (75 FR 77666), February 2, 2011 (76 FR 5833) and April 22, 2011 (76 FR 22729).

At the request of the State agency, the Department reviewed the certification for workers of the subject firm. The workers are engaged in activities related to the production of components for recreational vehicles.

The company reports that workers leased from Select Staffing were employed on-site at the Osceola, Wisconsin location of Polaris Industries. The Department has determined that these workers were sufficiently under the control of Polaris Industries to be considered leased workers.

Based on these findings, the Department is amending this certification to include workers leased from Select Staffing working on-site at the Osceola, Wisconsin location of Polaris Industries.

The amended notice applicable to TA-W-74,336 is hereby issued as follows:

All workers of Polaris Industries, including on-site leased workers from Westaff, Supply Technologies, Aerotek, Securitas Security Services, Volt Workforce Solutions and Select Staffing, Osceola, Wisconsin, who became totally or partially separated from employment on or after June 28, 2009 through August 26, 2012, and all workers in the group threatened with total or partial separation from employment on the date of certification through two years from the date of certification, are eligible to apply for adjustment assistance under Chapter 2 of Title II of the Trade Act of 1974, as amended.

Signed at Washington, DC, this 22nd day of February 2012.
Elliott S. Kushner,
Certifying Officer, Division of Trade Adjustment Assistance.

[FR Doc. 2012-5394 Filed 3-5-12; 8:45 am]

BILLING CODE 4510-FN-P